FEDERAL COMMUNICATIONS COMMISSION

47 CFR Part 73

[DA 09-1732; MB Docket No. 09-18; RM-11513]

Radio Broadcasting Services: Dulac, LA

AGENCY: Federal Communications Commission.

ACTION: Final rule.

SUMMARY: The staff grants a rulemaking petition filed by Sunburst Media-Louisiana, LLC, by substituting FM Channel 230A for vacant Channel 242A at Dulac, Louisiana. The reference coordinates for Channel 230A at Dulac are 29-20-37 NL and 90-45-16 WL.

DATES: Effective September 17, 2009.

ADDRESSES: Secretary, Federal Communications Commission, 445 12th Street, SW., Washington, DC 20554.

FOR FURTHER INFORMATION CONTACT: Andrew J. Rhodes, Media Bureau, (202) 418-2180.

SUPPLEMENTARY INFORMATION: This is a synopsis of the Commission's Report and Order, MB Docket No. 09-18, adopted July 30, 2009, and released August 3, 2009. The full text of this Report and Order is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Notice of Proposed Rule Making in this proceeding stated that Sunburst Media-Louisiana's rulemaking petition was filed as part of a hybrid application and rulemaking proposal involving its concurrently filed minor change application (File No. BPH-20090129AMR). In this application, Sunburst proposes the upgrade and reallotment of its Station KMYO-FM from Channel 244C3 at Morgan City, Louisiana, to Channel 244C2 at Gray, Louisiana. The modification of the Morgan City license is contingent upon the channel substitution at Dulac. The Report and Order notes that Sunburst's application is being granted simultaneously with the release of the Report and Order.

The Report and Order does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of the Report and Order in this proceeding in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority for Part 73 continues to read as follows:

Authority: 47 U.S.C. 154, 303, 334, 336.

§ 73.202 [Amended]

2. Section 73.202(b), the Table of FM Allotments under Louisiana, is amended by removing Channel 242A at Dulac and adding Channel 230A at Dulac.

Federal Communications Commission.
Andrew J. Rhodes,
Senior Counsel, Allocations, Audio Division, Media Bureau.

[FR Doc. E9-19878 Filed 8-18-09; 8:45 am]

BILLING CODE 6712-01-P